DEPARTMENT OF THE TREASURY

United States Mint

Pricing for the 2015 March of Dimes Special Silver Set

AGENCY: United States Mint, Department of the Treasury.

ACTION: Notice.

SUMMARY: The United States Mint is announcing pricing for the 2015 March of Dimes Special Silver Set as follows:

Coin | Price
March of Dimes Special Silver Set | $61.95

FOR FURTHER INFORMATION CONTACT: Mary Lhotsky, Acting Associate Director for Sales and Marketing; United States Mint; 801 Ninth Street NW; Washington, DC 20220; or call 202-354-7500.

Authority: 31 U.S.C. 5111. 5112 & 9701.

Dated: February 18, 2015.
Richard A. Peterson,
Deputy Director for Manufacturing and Quality, United States Mint.

[FR Doc. 2015-03722 Filed 2-23-15; 8:45 am]

BILLING CODE P